DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2011, there were six applications approved. This notice also includes information on three applications, approved in April 2011, inadvertently left off the April 2011 notice. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: County of San Joaquin, Stockton, California.

Application Number: 11-05-C-00-SCK.

Application Type: Impose and use a PFC.

PFC Level: $4.50.

Total PFC Revenue Approved in this Decision: $336,996.

Earliest Charge Effective Date: September 1, 2011.

Estimated Charge Expiration Date: September 1, 2012.

Class of Air Carriers Not Required To Collect PFC's: Nonscheduled/on-demand air carriers filing FAA Form 1800-31.

Determination: Approved. Based on information contained in the public agency's application, the FAA has determined that the proposed class accounts for less than 1 percent of the total annual enplanements at Stockton Metropolitan Airport.

Brief Description Of Projects Approved for Collection and Use:

Rehabilitation of taxiways H and J.

Terminal hold room expansion.

Aircraft rescue and firefighting building modification.

Rehabilitate runway 11R/29L lighting system.

Rehabilitate airfield markings.

Modify runway 11R/29L distance-to-go signs.

Reconstruct terminal ramp—design.

Reconstruct terminal ramp—construction.

Security equipment—fingerprinting machine (replacement).

PFC Administrative costs.

Brief Description of Project Partially Approved for Collection and Use: Aircraft rescue and firefighting radio/crash phone system.

Determination: The FAA determined that the proposed hand held radio equipment is not PFC eligible in accordance with § 158.15(b).

Decision Date: April 20, 2011.

For Further Information Contact: Gretchen Kelly, San Francisco Airports District Office, (650) 876-2778, extension 623.

Public Agency: Jacksonville Airport Authority, Jacksonville, Florida.

Application Number: 11-10-C-00-JAX.

Application Type: Impose and use a PFC.

PFC Level: $4.50.

Total PFC Revenue Approved in this Decision: $11,352,575.

Earliest Charge Effective Date: October 1, 2023.

Estimated Charge Expiration Date: July 1, 2024.

Class Of Air Carriers Not Required To Collect PFC's: Air taxi/commercial operators.

Determination: Approved. Based on information contained in the public agency's application, the FAA has determined that the proposed class accounts for less than 1 percent of the total annual enplanements at Jacksonville International Airport.

Brief Description Of Projects Approved for Collection and Use at a $4.50 PFC Level:

Design concourse B apron.

Construct concourse B apron (phase I)—bypass taxiways.

Design and construct runways 13/31, 7/24, and air cargo apron joint seal rehabilitation.

Airfield lighting upgrades.

Aircraft rescue and firefighting vehicle replacement.

Electrical substation and distribution system rehabilitation.

Rehabilitate internal circulation road (aircraft rescue and firefighting access).

Rehabilitate taxiways T and H.

Brief Description of Projects Approved for Collection and Use at a $3.00 PFC Level:

Schematic design of concourse B.

Rehabilitate baggage information display screens.

Rehabilitate internal circulation road (tug road improvements).

PFC implementation and administrative costs.

Decision Date: April 26, 2011.

FOR FURTHER INFORMATION CONTACT: Susan Moore, Orlando Airports District Office, (407) 812-6331.

Public Agency: Port of Portland, Portland, Oregon.

Application Number: 11-11-C-00-PDX.

Application Type: Impose and use a PFC.

PFC Level: $4.50.

Total PFC Revenue Approved in This Decision: $327,509,220.

Earliest Charge Effective Date: August 1, 2020.

Estimated Charge Expiration Date: March 1, 2031.

Classes of Air Carriers Not Required To Collect PFC'S:

(1) Air taxi/commercial operators that offer non-scheduled/on-demand air operations that enplane less than 2,500 passengers per year at Portland International Airport (PDX); and (2) commuters or small certificated air carriers that enplane less than 2,500 passengers per year at PDX.

Determination: Approved. Based on information contained in the public agency's application, the FAA has determined that each proposed class accounts for less than 1 percent of the total annual enplanements at PDX.

Brief Description of Projects Approved for Collection and Use at a $4.50 PFC Level:

South runway reconstruction (10R/28L).

Deicing project.

North runway reconstruction (10L/28R).

Decision Date: April 28, 2011.

FOR FURTHER INFORMATION CONTACT: Dave Roberts, Seattle Airports District Office, (425) 227-2629.

Public Agency: Los Angeles World Airports, Los Angeles, California.

Application Number: 11-08-C-00-LAX.

Application Type: Impose and use a PFC.

PFC Level: $3.00.

Total PFC Revenue Approved in This Decision: $29,107,609.

Earliest Charge Effective Date: March 1, 2019.

Estimated Charge Expiration Date: June 1, 2019.

Class of Air Carriers Not Required To Collect PFC's:

Air taxi/commercial operators—nonscheduled/on-demand air carriers filing FAA Form 1800-31.

Determination: Approved. Based on information contained in the public agency's application, the FAA has determined that the proposed class accounts for less than 1 percent of the total annual enplanements at Los Angeles International Airport.

Brief Description of Project Partially Approved for Collection and Use:

Lennox Schools soundproofing program.

Determination: The FAA determined that several components of the project were not PFC eligible in accordance with § 158.15(b). Specifically, the FAA disapproved all soundproofing work associated with portable or relocatable classrooms as well as soundproofing of several proposed rooms where activities would not be disrupted by aircraft noise. The FAA also disapproved the use of PFC revenue to replace existing flooring with carpeting because carpeting does not provide sound attenuation for aircraft noise. Finally, the FAA disapproved design costs listed in the detailed cost information provided in the PFC application because the public agency did not include design in its description and justification of the project.

BRIEF DESCRIPTION OF PROJECT PARTIALLY APPROVED FOR COLLECTION:

Lennox Schools soundproofing program (future sites).

Determination: The FAA determined that several components of the project were not PFC eligible in accordance with § 158.15(b). Specifically, the FAA disapproved all soundproofing work associated with relocatable classrooms. The FAA also disapproved the use of PFC revenue to install flooring as a part of the sound mitigation measures because flooring does not provide sound attenuation for aircraft noise. The FAA disapproved the line item identified as “move management” as not being justified for this new construction. Finally, the FAA disapproved design costs listed in the detailed cost information provided in the PFC application because the public agency did not include design in its description and justification of the project.

Decision Date: May 2, 2011.

FOR FURTHER INFORMATION CONTACT: Darlene Williams, Los Angeles Airports District Office, (310) 725-3625.

Public Agency: County of Westchester, White Plains, New York.

Application Number: 11-06-C-00-HPN.

Application Type: Impose and use a PFC.

PFC Level: $4.50.

Total PFC Revenue Approved in This Decision: $8,000,000.

Earliest Charge Effective Date: October 1, 2011.

Estimated Charge Expiration Date: August 1, 2013.

Class of Air Carriers Not Required To Collect PFC's:

Non-scheduled/on-demand air carriers, filing FAA Form 1800-31.

Determination: Approved. Based on information contained in the public agency's application, the FAA has determined that the proposed class accounts for less than 1 percent of the total annual enplanements at Westchester County Airport.

BRIEF DESCRIPTION OF PROJECT APPROVED FOR COLLECTION AND USE:

Design and construction of conveyance and disposal system for aircraft deicing fluid.

Decision Date: May 5, 2011.

For Further Information Contact: Andrew Brooks, New York Airports District Office, (516) 227-3816.

Public Agency: Roanoke Regional Airport Commission, Roanoke, Virginia.

Application Number: 11-03-C-00-ROA.

Application Type: Impose and use a PFC.

PFC Level: $4.50.

Total PFC Revenue Approved in This Decision: $2,191,701.

Earliest Charge Effective Date: November 1, 2011.

Estimated Charge Expiration Date: January 1, 2013.

Class of Air Carriers Not Required To Collect PFC's:

Carriers required to file FAA Form 1800-31.

Determination: Approved. Based on information contained in the public agency's application, the FAA has determined that the proposed class accounts for less than 1 percent of the total annual enplanements at Roanoke Regional Airport.

Brief Description of Projects Approved for Collection and Use:

Noise mitigation program (65-69 DNL) phases 5 through 8.

Rehabilitate apron (design and construction) phase 2.

Update airport master plan.

Rehabilitate runway 15/33—phase 3.

Rehabilitate taxiways A and G—phase 3.

Rehabilitate taxiway T.

Acquire aircraft rescue and firefighting land.

Remove obstructions in runway 15 runway protection zone.

Acquire aircraft rescue and firefighting vehicle.

Acquire aircraft deicing equipment.

Acquire runway sweeper.

PFC program formulation.

Annual PFC administrative costs.

Decision Date: May 16, 2011.

FOR FURTHER INFORMATION CONTACT: Jeffrey Breeden, Washington Airports District Office, (703) 661-1363.

Public Agency: Airport Authority District Number 1 Calcasiu Parish, Lake Charles, Louisiana.

Application Number: 11-03-C-00-LCH.

Application Type: Impose and use a PFC.

PFC Level: $4.50.

Total PFC Revenue Approved in This Decision: $650,000.

Earliest Charge Effective Date: November 1, 2013.

Estimated Charge Expiration Date: September 1, 2015.

Class of Air Carriers Not Required To Collect PFC's:

Air taxi/commercial operators filing FAA Form 1800-31.

Determination: Approved. Based on information contained in the public agency's application, the FAA has determined that the proposed class accounts for less than 1 percent of the total annual enplanements at Lake Charles Regional Airport.

Brief Description of Projects Approved for Collection and Use:

Acquisition of airport training system.

Loading bridge baggage delivery systems.

Airport access road lighting improvements.

Airfield fencing improvements.

Professional fees.

Decision Date: May 20, 2011.

For Further Information Contact: Justin Barker, Louisiana/New Mexico Airports Development Office, (817) 222-5628.

Public Agency: City of Tyler, Texas.

Application Number: 11-05-C-00-TYR.

Application Type: Impose and use a PFC.

PFC Level: $4.50.

Total PFC Revenue Approved in This Decision: $1,782,732.

Earliest Charge Effective Date: October 1, 2011.

Estimated Charge Expiration Date: September 1, 2017.

Class of Air Carriers Not Required To Collect PFC's: None.

Brief Description of Projects Approved for Collection and Use:

Construct service road.

Planning study—airport update.

Airfield lighting.

Aircraft rescue and firefighting truck.

Runway 13/31 safety area and visibility zone improvements.

Runway 4/22 safety area improvements. Construct taxiway K.

Gates.

Wildlife hazard assessments.

Security fencing.

Install terminal flight information display system.

Security improvements—finger print.

PFC application and administration fees.

Decision Date: May 20, 2011.

For Further Information Contact:

Guillermo Villalobos, Texas Airports Development Office, (817) 222-5657.

Public Agency: St Joseph County Airport Authority, South Bend, Indiana.

Application Number: 11-04-C-00-SBN.

Application Type: Impose and use a PFC.

PFC Level: $4.50.

Total PEG Revenue Approved in This Decision: $6,000,000.

Earliest Charge Effective Date: January 1, 2021.

Estimated Charge Expiration Date: July 1, 2029.

Class of Air Carriers Not Required To Collect PFC's: Non-scheduled/on-demand air carriers, filing FAA Form 1800-31.

Determination: Approved. Based on information contained in the public agency's application, the FAA has determined that the proposed class accounts for less than 1 percent of the total annual enplanements at South Bend Regional Airport.

Brief Description of Projects Approved for Collection and Use:

Terminal expansion.

Loading bridges.

Access control.

Public seating.

Architectural services.

Decision Date: May 23, 2011.

For Further Information Contact:

Gregory Sweeny, Chicago Airports District Office, (847) 294-7526.

Amendment to PFC Approvals
Amendment No. | Amendment approved | Original approved net PFC | Amended approved net PFC | Original estimated charge | Amended estimated charge
09-05-C-01-HPN White Plains, NY | 04/25/11 | $18,000,000 | $10,000,000 | 08/01/13 | 10/01/11
99-05-C-02-SBP San Luis Obispo, CA | 05/02/11 | 1,040,111 | 1,057,676 | 07/01/15 | 06/01/14
02-07-C-01-SBP San Luis Obispo, CA | 05/02/11 | 1,652,880 | 1,730,271 | 07/01/19 | 07/01/15
10-16-C-01-BNA Nashville, TN | 05/03/11 | 4,290,000 | 5,502,500 | 12/01/16 | 01/01/17
08-08-C-01-SMF Sacramento, CA | 05/12/11 | 603,497,524 | 676,588,317 | 02/01/28 | 11/01/34
03-05-C-01-EUG Eugene, OR | 05/18/11 | 2,032,935 | 2,518,402 | 07/01/05 | 06/01/06
06-08-C-01-EUG Eugene, OR | 05/18/11 | 2,645,000 | 2,633,131 | 05/01/09 | 07/01/09
*06-03-C-02-ABQ Albuquerque, NM | 05/19/11 | 68,885,899 | 78,203,803 | 07/01/16 | 10/01/17
04-08-C-04-RNO Reno, NV | 05/20/11 | 49,500,000 | 53,000,000 | 07/01/07 | 07/01/07

Notes: The amendment denoted by an asterisk (*) includes a change to the PFC level charged from $3.00 per enplaned passenger to $4.50 per enplaned passenger. For Albuquerque, NM, this change is effective on July 1, 2011.

Issued in Washington, DC, on June 2, 2011.
Joe Hebert,
Manager, Financial Analysis and Passenger Facility Charge Branch.

[FR Doc. 2011-14372 Filed 6-9-11; 8:45 am]

BILLING CODE 4910-13-M